DEPARTMENT OF AGRICULTURE

Food Safety and Inspection Service

9 CFR Part 352

[Docket No. FSIS-2019-0028]

RIN 0583-AD80

Inspection of Yak and Other Bovidae, Cervidae, and Camelidae Species; Correction

AGENCY: Food Safety and Inspection Service, U.S. Department of Agriculture (USDA).

ACTION: Final rule; correction.

SUMMARY: This document corrects the Regulation Identifier Number that appeared in a final rule published in the Federal Register on July 15, 2021, regarding the inspection of yak and other bovidae, cervidae, and camelidae species.

DATES: This final rule correction is effective July 28, 2021.

FOR FURTHER INFORMATION CONTACT: Rachel Edelstein, Assistant Administrator, Office of Policy and Program Development by telephone at (202) 205-0495.

SUPPLEMENTARY INFORMATION:

Correction

In final rule FR Doc. 2021-15062, beginning on page 37216 in the issue of July 15, 2021, make the following correction: On page 37216, in the second column, the Regulation Identifier Number is corrected to read “RIN 0583-AD80”.

Done at Washington, DC.
Paul Kiecker,
Administrator.

[FR Doc. 2021-16059 Filed 7-27-21; 8:45 am]

BILLING CODE 3410-DM-P